NUCLEAR REGULATORY COMMISSION

Agency Information Collection Activities: Submission for OMB Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

Information pertaining to the requirement to be submitted:

1. Type of submission, new, revision, or extension: Extension.

2. The title of the information collection: DOE/NRC Form 742, “Material Balance Report;” NUREG/BR-0007, “Instructions for Completing Material Balance Report and Physical Inventory Listing;” and DOE/NRC Form 742C, “Physical Inventory Listing.”

3. The form number, if applicable: DOE/NRC Form 742 and DOE/NRC Form 742C.

4. How often the collection is required: DOE/NRC Forms 742 and 742C are submitted semiannually following a physical inventory of nuclear materials.

5. Who is required or asked to report: Persons licensed to possess specified quantities of special nuclear or source material.

6. An estimate of the number of responses:

DOE/NRC Form 742: 400 responses

DOE/NRC Form 742C: 360 responses

7. The number of annual respondents:

DOE/NRC Form 742: 200 licensees

DOE/NRC Form 742C: 180 licensees

8. The number of hours needed annually to complete the requirement or request:

DOE/NRC Form 742: 300 hours

DOE/NRC Form 742C: 2,160 hours

9. An indication of whether Section 3507(d), Pub. L. 104-13 applies: Not applicable.

10. Abstract: Each licensee authorized to possess special nuclear material totaling more than 350 grams of contained uranium-235, uranium-233, or plutonium, or any combination thereof, and any licensee authorized to possess 1,000 kilograms of source material is required to submit DOE/NRC Form 742. Reactor licensees required to submit DOE/NRC Form 742, and facilities subject to 10 CFR Part 75, are required to submit DOE/NRC Form 742C. The information is used by NRC to fulfill its responsibilities as a participant in US/IAEA Safeguards Agreement and bilateral agreements with Australia and Canada, and to satisfy its domestic safeguards responsibilities.

A copy of the final supporting statement may be viewed free of charge at the NRC Public Document Room, 2120 L Street, NW. (lower level), Washington, DC. OMB clearance requests are available at the NRC worldwide web site (http://www.nrc.gov/NRC/PUBLIC/OMB/index.html). The document will be available on the NRC home page site for 60 days after the signature date of this notice. Comments and questions should be directed to the OMB reviewer by August 4, 2000.

Erik Godwin, Office of Information and Regulatory Affairs (3150-0143), NEOB-10202, Office of Management and Budget,Washington, DC 20503.

Comments can also be submitted by telephone at (202) 395-3087.

The NRC Clearance Officer is Brenda Jo. Shelton, 301-415-7233.

Dated at Rockville, Maryland, this 28th day of June, 2000.
For the Nuclear Regulatory Commission.
Brenda Jo. Shelton,
NRC Clearance Officer, Office of the Chief Information Officer.

[FR Doc. 00-16897 Filed 7-3-00; 8:45 am]

BILLING CODE 7590-01-P